DEPARTMENT OF TRANSPORTATION

Coast Guard

33 CFR Parts 140, 141, 142, 143, 144, 145, 146, and 147

[USCG-1998-3868]

RIN 2115-AF39

Outer Continental Shelf Activities

AGENCY: Coast Guard, DOT.

ACTION: Notice of proposed rulemaking; extension of comment period.

SUMMARY: The Coast Guard is further extending the period for public comment on its notice of proposed rulemaking (NPRM) on Outer Continental Shelf Activities. We are changing the deadline for receipt of comments from July 5, 2000, to November 30, 2000. Also, we are changing the deadline for receipt of comments by the Office of Management and Budget on the proposed collection-of-information requirements from July 5, 2000, to November 30, 2000.

DATES: Comments and related material must reach the Docket Management Facility on or before November 30, 2000. Comments sent to OMB on collection of information must reach OMB on or before November 30, 2000.

ADDRESSES: To make sure your comments and related material are not entered more than once in the docket, please submit them by only one of the following methods:

(1) By mail to the Docket Management Facility, (USCG-1998-3868), U.S. Department of Transportation, room PL-401, 400 Seventh Street SW., Washington, DC 20590-0001.

(2) By hand to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

You may also mail comments on collection of information to the Office of Information and Regulatory Affairs, Office of Management and Budget, 725 17th Street NW., Washington, DC 20503, ATTN: Desk Officer, U.S. Coast Guard.

FOR FURTHER INFORMATION CONTACT: For questions on this proposed rule, call Mr. James M. Magill, Vessel and Facility Operating Standards Division (G-MSO-2), telephone 202-267-1082 or fax 202-267-4570. For questions on viewing or submitting material to the docket, call Ms. Dorothy Beard, Chief of Dockets, Department of Transportation, telephone 202-366-9329.

SUPPLEMENTARY INFORMATION:

Request for Comments

The notice of proposed rulemaking (NPRM) on Outer Continental Shelf Activities, published on December 7, 1999 (64 FR 68416), encouraged interested persons to participate in this rulemaking by submitting written data, views, or arguments by April 5, 2000. It also invited comments on collection-of-information requirements to be submitted to the Office of Management and Budget (OMB) by February 7, 2000. We received a request to extend both of those dates to July 5, 2000, and did so by a notice of extension (65 FR 14226, March 16, 2000). As a result of several requests since that notice of extension, we are again extending both dates until November 30, 2000.

Persons submitting comments should include their names and addresses, identify this docket (USCG-1998-3868) and the specific section of the NPRM to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope.

The Coast Guard will consider all comments received during the comment period. It may change this NPRM in view of them.

Dated: June 27, 2000.
Joseph J. Angelo,
Director of Standards, Marine Safety and Environmental Protection.

[FR Doc. 00-16658 Filed 6-29-00; 8:45 am]

BILLING CODE 4910-15-U